DEPARTMENT OF THE INTERIOR

Bureau of Indian Affairs

25 CFR Part 162

RIN 1076-AE73

Residential, Business, and Wind and Solar Resource Leases on Indian Land

AGENCY: Bureau of Indian Affairs, Interior.

ACTION: Final rule; correction.

SUMMARY: The Bureau of Indian Affairs (BIA) published a rule in the Federal Register of December 5, 2012, announcing the revisions to regulations addressing non-agricultural surface leasing of Indian land. This notice makes some minor corrections to include the proper indefinite article for the term “agricultural lease” and clarifies two provisions for wind energy evaluation leases (WEELs).

DATES: This correction is effective on March 29, 2013.

FOR FURTHER INFORMATION CONTACT: Elizabeth Appel, Acting Director, Office of Regulatory Affairs & Collaborative Action, (202) 273-4680; elizabeth.appel@bia.gov.

SUPPLEMENTARY INFORMATION:

Need for Corrections

The final regulations addressing non-agricultural surface leasing of Indian land, and redesignating certain sections related to agricultural leases, failed to direct changes to the indefinite article preceding “agricultural lease,” resulting in the regulatory language now stating “a agricultural lease” rather than “an agricultural lease” in several instances. The final regulations also inadvertently omitted insurance as a mandatory provision for WEELs and the standard language that BIA may treat any provision of a lease document that violates Federal law as a violation of the lease. This document corrects those errors.

List of Subjects in 25 CFR Part 162

Indians—lands.

Accordingly, 25 CFR part 162 is corrected by making the following correcting amendments:

PART 162—LEASES and PERMITS

1. The authority citation continues to read as follows:

Authority: 5 U.S.C. 301, R.S. 463 and 465; 25 U.S.C. 2 and 9. Interpret or apply sec. 3, 26 Stat. 795, sec. 1, 28 Stat. 305, secs. 1, 2, 31 Stat. 229, 246, secs. 7, 12, 34 Stat. 545, 34 Stat. 1015, 1034, 35 Stat. 70, 95, 97, sec. 4, 36 Stat. 856, sec. 1, 39 Stat. 128, 41 Stat. 415, as amended, 751, 1232, sec. 17, 43 Stat. 636, 641, 44 Stat. 658, as amended, 894, 1365, as amended, 47 Stat. 1417, sec. 17, 48 Stat. 984, 988, 49 Stat. 115, 1135, sec. 55, 49 Stat. 781, sec. 3, 49 Stat. 1967, 54 Stat. 745, 1057, 60 Stat. 308, secs. 1, 2, 60 Stat. 962, sec. 5, 64 Stat. 46, secs. 1, 2, 4, 5, 6, 64 Stat. 470, 69 Stat. 539, 540, 72 Stat. 968, 107 Stat. 2011, 108 Stat. 4572, March 20, 1996, 110 Stat. 4016; 25 U.S.C. 380, 393, 393a, 394, 395, 397, 402, 402a, 403, 403a, 403b, 403c, 409a, 413, 415, 415a, 415b, 415c, 415d, 416, 477, 635, 2201 et seq., 3701, 3702, 3703, 3712, 3713, 3714, 3715, 3731, 3733, 4211; 44 U.S.C. 3101 et seq.

§ 162.105 [Amended]

2. In § 162.105, paragraph (a), remove the words “a agricultural lease” and add, in their place, the words “an agricultural lease.”

§ 162.106 [Amended]

3. In § 162.106, paragraph (a), remove the words “a lease” wherever they appear and add, in their place, the words “an agricultural lease.”

4. In § 162.513, revise paragraph (a) introductory text, paragraphs (a)(6) and (a)(7), and add paragraphs (a)(8) and (e) to read as follows:

§ 162.513 Are there mandatory provisions a WEEL must contain?

(a) All WEELs must identify:

* * * * *

(6) Payment requirements and late payment charges, including interest;

(7) Due diligence requirements, under § 162.517; and

(8) Insurance requirements, under § 162.527.

* * * * *

(e) We may treat any provision of a lease document that violates Federal law as a violation of the lease.

Dated: March 7, 2013.
Kevin K. Washburn,
Assistant Secretary—Indian Affairs.

[FR Doc. 2013-07225 Filed 3-28-13; 8:45 am]

BILLING CODE 4310-6W-P